DEPARTMENT OF HEALTH AND HUMAN SERICES

Administration for Children and Families

Agency Recordkeeping/Reporting Requirements Under Emergency Review by the Office of Management and Budget (OMB)

Title: Court Improvement Program New Grants.

OMB No.: New Collection.

Description: The President signed the Deficit Reduction Act of 2005, Public Law 109-171, into law on February 8, 2006. The law authorizes and appropriates funds for two new grants under the Court Improvement Program under title IV-B, section 438 of the Social Security Act. The highest State court in a State with an approved title IV-E plan is eligible to apply for either or both of the new grants. The new grants are for the purposes of: (1) Ensuring that the needs of children are met in a timely and complete manner through improved case tracking and analysis of child welfare cases, and (2) training judges, attorneys and other legal personnel in child welfare cases and conducting cross-training with child welfare agency staff and contractors.

The statute requires separate applications for these two new grants. The annual burden estimates below describe the estimated burden for each of the new grants. ACF proposes to collect information from the State about their work under these grants (applications, program reports) by way of a Program Instruction, which will be issued by June 14, 2006. This Program Instruction will describe the programmatic and fiscal provisions and reporting requirements for each of the grants, specify the application submittal and approval procedures for the grants for fiscal years 2006 through 2010 and identify technical resources for use by State courts during the course of the grants. The agency will use the information received to ensure compliance with the statute and provide training and technical assistance to the grantees.

Respondents: State Courts.

Annual Burden Estimates
Instrument | Number of respondents | Number of responses per respondent | Average burden hours per response | Total burden hours
Application | 52 | 1 | 40 | 2,080
Annual Program Report | 52 | 1 | 36 | 1,872

Estimated Total Annual Burden Hours: 3,952 hours.

Additional Information: ACF is requesting that OMB grant a 90-day approval for this information collection under procedures for emergency processing by June 14, 2006. A copy of this information collection, with applicable supporting documentation, may be obtained by calling the Administration for Children and Families, Reports Clearance Officer, Robert Sargis, at (202) 690-7275. E-mail address: infocollection@acf.hhs.gov.

Comments and questions about the information collection described above should be directed to the following address by June 14, 2006: Office of Information and Regulatory Affairs, Office of Management and Budget, Paper Reduction Project, Attn: OMB Desk Officer for ACF, E-mail address: Katherine_T._Astrich@omb.eop.gov.

Dated: June 6, 2006.
Robert Sargis,
Reports Clearance Officer.

[FR Doc. 06-5291 Filed 6-9-06; 8:45 am]

BILLING CODE 4184-01-M